DEPARTMENT OF ENERGY

FEDERAL ENERGY REGULATORY COMMISSION

[Docket No. CP99-624-000]

Wyoming Interstate Company, Ltd.; Notice of Availability of the Environmental Assessment for the Proposed Medicine Bow Lateral Phase II Project

January 14, 2000.

The staff of the Federal Energy Regulatory Commission (FERC or Commission) has prepared an environmental assessment (EA) on the natural gas pipeline facilities proposed by Wyoming Interstate Company, Ltd. (WIC) in the above-referenced docket. The proposed project would include the construction and operation of approximately 5.6 miles of 24-inch-diameter pipeline, add 7,170 horsepower (hp) of compression to an existing compressor station, and a new check meter at an existing compressor station.

The EA was prepared to satisfy the requirements of the National Environmental Policy Act. The staff concludes that approval of the proposed project, with appropriate mitigating measures, would not constitute a major Federal action significantly affecting the quality of the human environment.

WIC proposed to build a new pipeline and compression facilities to increase the transportation capacity of its existing Medicine Bow Lateral in Colorado and Wyoming. The new facilities would enable WIC to transport an additional 120,000 Dekatherms per day (Dth/d) of natural gas from the Powder River Basin.

The EA assesses the potential environmental effects of the construction and operation of the following proposed natural gas transmission facilities:

• about 5.6 miles of 24-inch-diameter pipeline in Weld County, Colorado;

• one 7,170-hp compressor unit at WIC's existing Douglas Compressor Station in Converse County, Wyoming; and

• one check meter at WIC's existing Cheyenne Compressor Station in Weld County, Colorado.

The EA has been placed in the public files of the FERC. A limited number of copies of the EA are available for distribution and public inspection at: Federal Energy Regulatory Commission, Public Reference and Files Maintenance Branch, 888 First Street, NE., Room 2A, Washington, DC 20426, (202) 208-1371.

Copies of the EA have been mailed to Federal, state and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send two copies of your comments to: David P. Boergers, Secretary, Federal Energy Regulatory Commission, 888 First St., N.E., Room 1A, Washington, DC 20426;

• Label one copy of the comments for the attention of the Environmental Review and Compliance Branch, PR-11.1;

• Reference Docket No. CP99-624-000; and

• Mail your comments so that they will be received in Washington, DC on or before February 14, 2000.

Comments will be considered by the Commission but will not serve to make the commentor a party to the proceeding. Any person seeking to become a party to the proceeding must file a motion to intervene pursuant to Rule 214 of the Commission's Rules of Practice and Procedures (18 CFR 385.214).

The date for filing timely motions to intervene in this proceeding has passed. Therefore, parties now seeking to file late interventions must show good cause, as required by section 385.214(b)(3), why this time limitation should be waived. Environmental issues have been viewed as good cause for late intervention. You do not need intervenor status to have your comments considered.

Additional information about the proposed project is available from Paul McKee in the Commission's Office of External Affairs, at (202) 208-1088 or on the FERC Internet website (www.ferc.fed.us) using the “RIMS” link to information in this docket number. Click on the “RIMS” link, select “Docket #” from the RIMS Menu, and follow the instructions. For assistance with access to RIMS, the RIMS helpline can be reached at (202) 208-2222. Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

Linwood A. Watson, Jr.,
Acting Secretary.

[FR Doc. 00-1427 Filed 1-20-00; 8:45 am]

BILLING CODE 6717-01-M